DEPARTMENT OF HEALTH AND HUMAN SERVICES

National Institutes of Health

Submission for OMB Review; 30-Day Comment Request: NEXT Generation Health Study

SUMMARY: Under the provisions of Section 3507(a)(1)(D) of the Paperwork Reduction Act of 1995, the Eunice Kennedy Shriver National Institute of Child Health and Human Development, the National Institutes of Health, has submitted to the Office of Management and Budget (OMB) a request for review and approval of the information collection listed below. This proposed information collection was previously published in the Federal Register on March 10, 2016, page 12744, and allowed 60-days for public comment. No public comments were received. The purpose of this notice is to allow an additional 30 days for public comment. The Eunice Kennedy Shriver National Institute of Child Health and Human Development, National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30 days of the date of this publication.

FOR FURTHER INFORMATION CONTACT: To obtain a copy of the data collection plans and instruments, or request more information on the proposed project, contact: Denise L. Haynie, Ph.D., MPH, Staff Scientist, Division of Population Intramural Research, 6100 Executive Blvd. Rm. 7B13, Bethesda, MD 20892, or call non-toll-free number (301) 435-6933 or Email your request, including your address to: Denise_Haynie@nih.gov. Formal requests for additional plans and instruments must be requested in writing.

Proposed Collection: NEXT Generation Health Study, 0925-0610, Expiration Date 04/30/2016, Reinstatement with Change, Eunice Kennedy Shriver National Institute of Child Health and Human Development (NICHD), National Institutes of Health (NIH).

Need and Use of Information Collection: The goal of this research is to obtain data on health and health behaviors annually for seven years beginning in the 2009-2010 school-year from a national probability sample of adolescents. The transition from high school to post high school years is a critical period for changes in health risk behaviors. This information will enable the improvement of health services and programs for youth. The study will provide needed information about the health of U.S. adolescents and young adults and influences on their health.

The study has collected information on adolescent health behaviors and social and environmental contexts for these behaviors annually for six years beginning in the 2009-2010 school year. This study will collect this information in 2016, the last planned data collection. Self-report of health status, health behaviors, and health attitudes will be collected by online surveys.

OMB approval is requested for 3 years. There are no costs to respondents other than their time. The total estimated annualized burden hours are 1385.

Estimated Annualized Burden Hours
Form name | Type of respondents | Number of respondents | Number of responses per respondent | Average burden per response | Total annual burden hour
NEXT Annual Survey | Young Adults | 2,100 | 1 | 35/60 | 1225
In Home Assessment | Young Adults | 532 | 1 | 15/60 | 133
In-home Survey | Young Adults | 532 | 1 | 3/60 | 27
Total Annual Burden Hours |  | 2100 | 3164 |  | 1385

Dated: June 10, 2016.
Sarah Glavin,
Project Clearance Liaison, NICHD, NIH.

[FR Doc. 2016-14738 Filed 6-21-16; 8:45 am]

BILLING CODE 4140-01-P